SECURITIES AND EXCHANGE COMMISSION

[Release No. 34-47012; File No. SR-NASD-2002-169]

Self-Regulatory Organizations; Notice of Filing and Immediate Effectiveness of Proposed Rule Change by National Association of Securities Dealers, Inc. To Modify Maximum Execution Fees and Credits for SuperMontage Transactions in Low-Priced Securities

December 16, 2002.

Correction

In notice document 02-32321 beginning on page 78551 in the issue of Tuesday, December 24, 2002 make the following correction:

On page 78551, in the third column, the docket number and date are corrected to read as set forth above.

[FR Doc. C2-32321 Filed 1-21-03; 8:45 am]

BILLING CODE 1505-01-D

DEPARTMENT OF TRANSPORTATION

Federal Aviation Administration

14 CFR Parts 1, 25, and 97

[Docket No. FAA-2002-13982; Amendment Nos. 1-49, 25-108, 97-1333]

RIN 2120-AD40

1-g Stall Speed as the Basis for Compliance With Part 25 of the Federal Aviation Regulations; Correction

Correction

In rule document 03-656 appearing on page 1955 in the issue of Wednesday, January 15, 2003, make the following correction:

On page 1955, in the first column, the docket number is corrected to read as set forth above.

[FR Doc. C3-656 Filed 1-21-03; 8:45 am]

BILLING CODE 1505-01-D